DEPARTMENT OF HOMELAND SECURITY

Federal Emergency Management Agency

44 CFR Part 65

[Docket ID FEMA-2010-0003]

Changes in Flood Elevation Determinations

AGENCY: Federal Emergency Management Agency, DHS.

ACTION: Final rule.

SUMMARY: Modified Base (1% annual-chance) Flood Elevations (BFEs) are finalized for the communities listed below. These modified BFEs will be used to calculate flood insurance premium rates for new buildings and their contents.

DATES: The effective dates for these modified BFEs are indicated on the following table and revise the Flood Insurance Rate Maps (FIRMs) in effect for the listed communities prior to this date.

ADDRESSES: The modified BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The Federal Emergency Management Agency (FEMA) makes the final determinations listed below of the modified BFEs for each community listed. These modified BFEs have been published in newspapers of local circulation and ninety (90) days have elapsed since that publication. The Deputy Federal Insurance and Mitigation Administrator has resolved any appeals resulting from this notification.

The modified BFEs are not listed for each community in this notice. However, this final rule includes the address of the Chief Executive Officer of the community where the modified BFE determinations are available for inspection.

The modified BFEs are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities.

These modified BFEs are used to meet the floodplain management requirements of the NFIP and also are used to calculate the appropriate flood insurance premium rates for new buildings built after these elevations are made final, and for the contents in those buildings. The changes in BFEs are in accordance with 44 CFR 65.4.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132, Federalism.

Executive Order 12988, Civil Justice Reform. This final rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Alabama:
Shelby (FEMA Docket No.: B-1123) | Town of Calera (09-04-0261P) | March 24, 2010; March 31, 2010; Shelby County Reporter | The Honorable George W. Roy, Mayor, Town of Calera, P.O. Box 177, Calera, AL 35040. | July 29, 2010 | 010373
Shelby (FEMA Docket No.: B-1123) | Unincorporated areas of Shelby County (09-04-0261P) | March 24, 2010; March 31, 2010; Shelby County Reporter | The Honorable Lindsey Allison, Chairperson, Shelby County Commission, P.O. Box 467, Columbiana, AL 35051. | July 29, 2010 | 010191
Arizona:
Maricopa (FEMA Docket No.: B-1123) | City of Glendale (09-09-2335P) | March 18, 2010; March 25, 2010; Arizona Business Gazette | The Honorable Elaine M. Scruggs, Mayor, City of Glendale, 5850 West Glendale Avenue, Glendale, AZ 85301. | July 23, 2010 | 040045
Maricopa (FEMA Docket No.: B-1123) | Unincorporated areas of Maricopa County (09-09-2335P) | March 18, 2010; March 25, 2010; Arizona Business Gazette | The Honorable Don Stapley, Chairman, Maricopa County Board of Supervisors, 301 West Jefferson Street, 10th Floor, Phoenix, AZ 85003. | July 23, 2010 | 040037
California: Riverside (FEMA Docket No.: B-1123) | City of Perris (10-09-0106P) | March 31, 2010; April 7, 2010; The Perris Progress | The Honorable Daryl R. Busch, Mayor, City of Perris, 101 North D Street, Perris, CA 92570. | July 29, 2010 | 060258
Florida:
Duvall (FEMA Docket No.: B-1118) | City of Jacksonville (10-04-1198P) | March 5, 2010; March 12, 2010; Jacksonville Daily Record | The Honorable John Peyton, Mayor, City of Jacksonville, 117 West Duval Street, Jacksonville, FL 32202. | July 9, 2010 | 120077
Volusia (FEMA Docket No.: B-1123) | City of Deltona (09-04-1747P) | March 22, 2010; March 29, 2010; The Beacon | The Honorable Dennis Mulder, Mayor, City of Deltona, 2345 Providence Boulevard, Deltona, FL 32725. | July 27, 2010 | 120677
Georgia:
Catoosa (FEMA Docket No.: B-1123) | City of Ringgold (09-04-6882P) | March 24, 2010; March 31, 2010; The Catoosa County News | The Honorable Joe Barger, Mayor, City of Ringgold, 150 Tennessee Street, Ringgold, GA 30736. | July 29, 2010 | 130029
Catoosa (FEMA Docket No.: B-1123) | Unincorporated areas of Catoosa County (09-04-6882P) | March 24, 2010; March 31, 2010; The Catoosa County News | The Honorable Keith Greene, Chairman, Catoosa County Board of Commissioners, 800 Lafayette Street, Ringgold, GA 30736. | July 29, 2010 | 130028
Columbia (FEMA Docket No.: B-1123) | Unincorporated areas of Columbia County (09-04-4792P) | March 14, 2010; March 21, 2010; The Columbia County News-Times | The Honorable Ron C. Cross, Chairman, Columbia County Board of Commissioners, P.O. Box 498, Evans, GA 30809. | July 19, 2010 | 130059
Mississippi:
DeSoto (FEMA Docket No.: B-1079) | Unincorporated areas of DeSoto County, (09-04-2542P) | August 11, 2009; August 18, 2009; DeSoto Times-Tribune | The Honorable Tommy Lewis, President, DeSoto County Board of Supervisors, 365 Losher Street, Suite 310, Hernando, MS 38632. | December 16, 2009 | 280050
DeSoto (FEMA Docket No.: B-1079) | City of Olive Branch (09-04-2542P) | August 11, 2009; August 18, 2009; DeSoto Times-Tribune | The Honorable Samuel P. Rikard, Mayor, City of Olive Branch, 9200 Pigeon Roost Road, Olive Branch, MS 38654. | December 16, 2009 | 280286
Rankin (FEMA Docket No.: B-1123) | City of Brandon (09-04-6879P) | March 31, 2010; April 7, 2010; Rankin County News | The Honorable Tim Coulter, Mayor, City of Brandon, P.O. Box 1539, Brandon, MS 39043. | March 25, 2010 | 280143
Rankin (FEMA Docket No.: B-1123) | Unincorporated areas of Rankin County (09-04-6879P) | March 31, 2010; April 7, 2010; Rankin County News | The Honorable Jay Bishop, Chair, Rankin County Board of Supervisors, 211 East Government Street, Suite A, Brandon, MS 39042. | March 25, 2010 | 280142
Ohio:
Franklin (FEMA Docket No.: B-1123) | City of Columbus (09-05-4021P) | March 12, 2010; March 19, 2010; The Columbus Dispatch | The Honorable Michael B. Coleman, Mayor, City of Columbus, 90 West Broad Street, Columbus, OH 43215. | July 19, 2010 | 390170
Franklin (FEMA Docket No.: B-1123) | City of Whitehall (09-05-4021P) | March 12, 2010; March 19, 2010; The Columbus Dispatch | The Honorable John A. Wolfe, Mayor, City of Whitehall, 360 South Yearling Road, Whitehall, OH 43213. | July 19, 2010 | 390180
Warren (FEMA Docket No.: B-1129) | City of Mason (08-05-5005P) | March 11, 2010; March 18, 2010; The Western Star | The Honorable Charlene Pelfrey, Mayor, City of Mason, 6000 Mason-Montgomery Road, Mason, OH 45040. | July 16, 2010 | 390559
Warren (FEMA Docket No.: B-1123) | City of Monroe (09-05-1088P) | March 5, 2010; March 12, 2010; The Middletown Journal | The Honorable Robert Routson, Mayor, City of Monroe, P.O. Box 330, Monroe, OH 45050. | July 9, 2010 | 390042
Warren (FEMA Docket No.: B-1129) | Unincorporated areas of Warren County (08-05-5005P) | March 11, 2010; March 18, 2010; The Western Star | The Honorable David G. Young, President, Warren County Board of Commissioners, 406 Justice Drive, 1st Floor, Lebanon, OH 45036. | July 16, 2010 | 390757
Oregon: Linn (FEMA Docket No.: B-1121) | City of Millersburg (09-10-0354P) | February 26, 2010; March 5, 2010; Democrat-Herald | The Honorable Clayton Wood, Mayor, City of Millersburg, 4222 Northeast Old Salem Road, Albany, OR 97321. | July 2, 2010 | 410284
Tennessee:
Madison (FEMA Docket No.: B-1123) | Unincorporated areas of Madison County (09-04-3077P) | March 10, 2010; March 17, 2010; Jackson Sun | The Honorable Jimmy Harris, Mayor, Madison County, 100 East Main Street, Suite 302, Jackson, TN 38301. | July 15, 2010 | 470112
Rutherford (FEMA Docket No.: B-1124) | City of Murfreesboro (09-04-3567P) | April 2, 2010; April 9, 2010; Daily News Journal | The Honorable Tommy Bragg, Mayor, City of Murfreesboro, 111 West Vine Street, Murfreesboro, TN 37133. | April 23, 2010 | 470168
Rutherford (FEMA Docket No.: B-1124) | Unincorporated areas of Rutherford County (09-04-3567P) | April 2, 2010; April 9, 2010; Daily News Journal | The Honorable Ernest Burgess, Mayor, Rutherford County, County Courthouse, Room 101, Murfreesboro, TN 37130. | April 23, 2010 | 470165
Texas:
Comal & Guadalupe (FEMA Docket No.: B-1118) | City of Schertz (09-06-2056P) | March 11, 2010; March 18, 2010; Northeast Herald | The Honorable Hal Baldwin, Mayor, City of Schertz, 1400 Schertz Parkway, Schertz, TX 78154. | July 16, 2010 | 480269
Comal and Guadalupe (FEMA Docket No.: B-1118) | City of Selma (09-06-2056P) | March 11, 2010; March 18, 2010; Northeast Herald | The Honorable Jim Parma, Mayor, City of Selma, 9375 Corporate Drive, Selma, TX 78154. | July 16, 2010 | 480046
Gregg (FEMA Docket No.: B-1118) | City of Longview (09-06-1728P) | March 5, 2010; March 12, 2010; Longview News-Journal | The Honorable Jay Dean, Mayor, City of Longview, P.O. Box 1952, Longview, TX 75606. | July 12, 2010 | 480264

(Catalog of Federal Domestic Assistance No. 97.022, “Flood Insurance.”)

Dated: December 7, 2010.
Sandra K. Knight,
Deputy Federal Insurance and Mitigation Administrator, Mitigation, Department of Homeland Security, Federal Emergency Management Agency.

[FR Doc. 2010-32700 Filed 12-28-10; 8:45 am]

BILLING CODE 9110-12-P